FEDERAL MARITIME COMMISSION

Notice of Request for Additional Information

The Commission gives notice that it has formally requested that the parties to the below listed agreement provide additional information pursuant to 46 U.S.C. 40304(d). This action prevents the agreement from becoming effective as originally scheduled. Interested parties may file comments within fifteen (15) days after publication of this notice in the Federal Register.

Agreement No.: 012426.

Title: OCEAN Alliance Agreement.

Parties: COSCO Container Lines Co., Ltd.; CMA CGM S.A., APL Co. Pte Ltd, and American President Lines, Ltd. (acting as one party); Evergreen Marine Corporation (Taiwan) Ltd. acting on its own behalf and/or on behalf of other members of the Evergreen Line Joint Service Agreement (ELJSA); and Orient Overseas Container Line Limited and OOCL (Europe) Limited (acting as one party).

By Order of the Federal Maritime Commission.
Dated: August 30, 2016.
Rachel E. Dickon,
Assistant Secretary.

[FR Doc. 2016-21141 Filed 9-1-16; 8:45 am]

BILLING CODE 6731-AA-P